ENVIRONMENTAL PROTECTION AGENCY

[EPA-HQ-OPPT-2017-0652; FRL-9979-89-OEI]

Information Collection Request Submitted to OMB for Review and Approval; Comment Request; Expanded Access to TSCA Confidential Business Information

AGENCY: Environmental Protection Agency (EPA).

ACTION: Notice.

SUMMARY: EPA has submitted the following information collection request (ICR) to the Office of Management and Budget (OMB) for review and approval in accordance with the Paperwork Reduction Act (PRA): “Expanded Access to TSCA Confidential Business Information” (EPA ICR No. 2570.01, OMB Control No. 2070-[new]). This is a request for approval of a new collection. EPA did not receive any comments in response to the previously provided public review opportunity issued in the Federal Register of March 12, 2018. With this submission to OMB, EPA is providing an additional 30 days for public review and comment.

DATES: Comments must be received on or before December 26, 2018.

ADDRESSES: Submit your comments, identified by Docket ID Number EPA-HQ-OPPT-2017-0652, to both EPA and OMB as follows:

• To EPA online using http://www.regulations.gov (our preferred method) or by mail to: EPA Docket Center, Environmental Protection Agency, Mail Code 28221T, 1200 Pennsylvania Ave. NW, Washington, DC 20460, and

• To OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Brandon Mullings, Environmental Assistance Division, 7408M, Environmental Protection Agency, 1200 Pennsylvania Ave. NW, Washington, DC 20460; telephone number: (202) 564-4826; email address: mullings.brandon@epa.gov.

SUPPLEMENTARY INFORMATION: Docket: Supporting documents, including the ICR that explains in detail the information collection activities and the related burden and cost estimates that are summarized in this document, are available in the docket for this ICR. The docket can be viewed online at http://www.regulations.gov or in person at the EPA Docket Center, West William Jefferson Clinton Bldg., Rm. 3334, 1301 Constitution Ave. NW, Washington, DC. The telephone number for the Docket Center is (202) 566-1744. For additional information about EPA's public docket, visit http://www.epa.gov/dockets.

ICR status: This is a new ICR. Under OMB regulations, an agency may continue to conduct or sponsor the collection of information while this submission is pending at OMB. Under PRA, 44 U.S.C. 3501 et seq., an agency may not conduct or sponsor, and a person is not required to respond to, a collection of information unless it displays a currently valid OMB control number. The OMB control numbers are displayed either by publication in the Federal Register or by other appropriate means, such as on the related collection instrument or form, if applicable. The display of OMB control numbers for certain EPA regulations is consolidated in 40 CFR part 9.

Abstract: This ICR addresses the content and form of the statements of need and agreements required under sections 14(d)(4), (d)(5), and (d)(6) of the Toxic Substances Control Act, as amended in 2016. These activities are described in the three guidance documents that have been developed to implement the new authorities in TSCA section 14(d)(4), (d)(5), and (d)(6), and include some basic logistical information on where and how to submit requests to EPA. Making a request for access to TSCA CBI is a voluntary activity, but is required in order to gain such access under TSCA section 14(d). The ICR provides burden estimates for these activities. The guidance documents are available at https://www.epa.gov/tsca-cbi/requesting-access-cbi-under-tsca.

Form Numbers: None.

Respondents/affected entities: Entities potentially affected by this ICR are mainly government employees (federal, state, local, tribal), as well as medical professionals, such as doctors and nurses.

Respondent's obligation to respond: Voluntary.

Estimated number of respondents: 6 (total).

Frequency of response: On occasion.

Total estimated burden: 89 hours (per year). Burden is defined at 5 CFR 1320.03(b)

Total estimated cost: $5,204.11 (per year), includes $0 annualized capital or operation & maintenance costs.

Courtney Kerwin,
Director, Collection Strategies Division, Office of Environmental Information.

[FR Doc. 2018-25673 Filed 11-23-18; 8:45 am]

BILLING CODE 6560-50-P